DEPARTMENT OF ENERGY

Bonneville Power Administration

Wanapa Energy Center; Notice of Availability of Record of Decision (ROD)

AGENCY: Bonneville Power Administration (Bonneville), Department of Energy (DOE).

ACTION: Notice of availability of Record of Decision (ROD).

SUMMARY: This notice announces the availability of the ROD to implement the proposed action identified in the Wanapa Energy Center Final Environmental Impact Statement (DOE/EIS-0342, December 2004). Under the proposed action, Bonneville will offer contract terms for interconnection of the Wanapa Energy Center with the Federal Columbia River Transmission System, as requested by the Confederated Tribes of the Umatilla Indian Reservation. The proposed project involves constructing and operating a 1,200-megawatt, natural gas-fired, combined-cycle power generation facility at a 47-acre site on tribal trust land near the Cities of Hermiston and Umatilla in Umatilla County, Oregon. Wanapa may construct this project in phases. A new switchyard will be constructed at the Wanapa site, and Bonneville will construct a new 500-kilovolt single-circuit transmission line from this switchyard 4.4 miles west to Bonneville's existing McNary Substation, which Bonneville will expand by about 2.75 acres on the east side.

ADDRESSES: Copies of the ROD and EIS may be obtained by calling BPA's toll-free document request line, 1-800-622-4520. The ROD and EIS are also available on our Web site, http://www.efw.bpa.gov.

FOR FURTHER INFORMATION, CONTACT: Thomas C. McKinney, Bonneville Power Administration—KEC-4, PO Box 3621, Portland, Oregon, 97208-3621; toll-free telephone number 1-800-282-3713; fax number 503-230-5699; or e-mail tcmckinney@bpa.gov.

Issued in Portland, Oregon, on February 24, 2005.
Steven G. Hickok,
Deputy Administrator.

[FR Doc. 05-4219 Filed 3-3-05; 8:45 am]

BILLING CODE 6450-01-P